CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled National Evaluation of School Turnaround AmeriCorps for review and approval in accordance with the Paperwork Reduction Act of 1995, Public Law 104-13, (44 U.S.C. Chapter 35). Copies of this ICR, with applicable supporting documentation, may be obtained by calling the Corporation for National and Community Service, Diana Epstein at 202-606-7564 or email to depstein@cns.gov. Individuals who use a telecommunications device for the deaf (TTY-TDD) may call 1-800-833-3722 between 8:00 a.m. and 8:00 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on June 27, 2014. This comment period ended August 26, 2014. No public comments were received from this Notice.

Description: The national evaluation of School Turnaround AmeriCorps will use a quasi-experimental design that compares schools affected by School Turnaround AmeriCorps (i.e., the treatment group) to a matched comparison group of low performing schools without the School Turnaround AmeriCorps initiative (i.e., the comparison group). This research design will attempt to isolate the effects of AmeriCorps members' service.

This is a new information collection request. Information will be collected from AmeriCorps grantee staff, AmeriCorps members, school leaders, teachers, and parents using online surveys and semi-structured interviews and focus groups conducted by telephone, online, and in person.

Type of Review: New.

Agency: Corporation for National and Community Service.

Title: National Evaluation of School Turnaround AmeriCorps.

OMB Number: TBD.

Agency Number: None.

Affected Public: AmeriCorps grantee staff, AmeriCorps members, school leaders, teachers, and parents.

Total Respondents: 1570. This is the number of unique individuals in the categories of grantee staff, AmeriCorps members, school leaders, parents, and teachers who will take the surveys and/or participate in interviews or focus groups.

Frequency: Some instruments will be administered twice per year, and some only once per year. Data collection will occur for two years. See charts below for details on respondents and frequency of data collection.

Average Time per Response: Averages 30 minutes.

Estimated Total Burden Hours: 2274 hours per year; 4548 total over 2 years.

Survey | AmeriCorps | Comparison | Pre/post? | Total
Grantee staff | 13 | 0 | No | 13
AmeriCorps members | 440 | 0 | No | 440
Principals | 62 | 62 | Yes | 248
Teachers | 348 | 348 | Yes | 1,392
| 863 | 410 |  | 2,093

Unique respondents: 1,273.

Minutes: 125,580.

Hours: 2,093.

Interviews | AmeriCorps | Comparison | Pre/post? | Total
Grantee staff | 13 | 0 | Yes | 26
AmeriCorps members | 26 | 0 | No | 26
Principals | 26 | 26 | Yes | 104
Teachers | 26 | 26 | No | 52
Parents | 50 | 0 | No | 50

Unique respondents: 193.

Minutes: 7,740.

Hours: 129.

Focus groups | AmeriCorps
Grantee staff | 13
AmeriCorps members | 39
Principals | 13
Teachers | 39

Unique respondents: 104.

Minutes: 3,120.

Hours: 52.

Total hours per year: 2,274.

Total hours 2 years: 4,548.

Total Burden Cost (capital/startup): None.

Total Burden Cost (operating/maintenance): None.

Dated: September 8, 2014.
Stephen Plank,
Director, Office of Research and Evaluation.

[FR Doc. 2014-21777 Filed 9-11-14; 8:45 am]

BILLING CODE 6050-28-P